DEPARTMENT OF THE TREASURY

United States Mint

Pricing for the 2018 San Francisco Mint Silver Reverse Proof Set

AGENCY: United States Mint, Department of the Treasury.

ACTION: Notice.

SUMMARY: The United States Mint is announcing the price of the 2018 San Francisco Mint Silver Reverse Proof Set™. The United States Mint will price each set at $54.95. The United States Mint at San Francisco will produce the set.

FOR FURTHER INFORMATION CONTACT: Derrick Griffin, Marketing Specialist, Numismatic and Bullion Directorate; United States Mint; 801 9th Street NW, Washington, DC 20220; or call 202-354-7500.

Authority: 31 U.S.C. 5111, 5112, 5132 & 9701.

Dated: February 20, 2018.
David Croft,
Acting Deputy Director, United States Mint.

[FR Doc. 2018-03901 Filed 2-26-18; 8:45 am]

BILLING CODE P